DEPARTMENT OF DEFENSE

Department of the Navy

[Docket ID: USN-2010-0044]

Privacy Act of 1974; System of Records

AGENCY: Department of the Navy, DoD.

ACTION: Notice to Amend a System of Records.

SUMMARY: The Department of the Navy proposes to amend a system of records in its inventory of record systems subject to the Privacy Act of 1974 (5 U.S.C. § 552a), as amended.

DATES: The changes will be effective on January 13, 2011 unless comments are received that would result in a contrary determination.

ADDRESSES: You may submit comments, identified by docket number and/Regulatory Information Number (RIN) and title, by any of the following methods:

• Federal Rulemaking Portal: http://www.regulations.gov. Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Robin Patterson, HEAD, FOIA/Privacy Act Policy Branch, the Department of the Navy, 2000 Navy Pentagon, Washington, DC 20350-2000, or Ms. Robin Patterson (202) 685-6546.

SUPPLEMENTARY INFORMATION: The Department of the Navy systems of records notice subject to the Privacy Act of 1974, (5 U.S.C. § 552a), as amended, has been published in the Federal Register and is available from the FOR FURTHER INFORMATION CONTACT address above.

The specific changes to the record system being amended are set forth below followed by the notice, as amended, published in its entirety. The proposed amendment is not within the purview of subsection (r) of the Privacy Act of 1974 (5 U.S.C. 552a), as amended, which requires the submission of new or altered systems reports.

Dated: December 8, 2010.
Morgan F. Park,
Alternate OSD Federal Register Liaison Officer, Department of Defense.

N05350-1

System name:

Navy Drug and Alcohol Program System (August 4, 2006, 71 FR 44267).

Changes:

* * * * *

System location:

Delete entry and replace with “Primary location: Personal and Family Readiness (N135), Navy Personnel Command, 5720 Integrity Drive, Millington, TN 38055-6000.

Decentralized locations: Navy Alcohol Rehabilitation Centers, Navy Alcohol Rehabilitation Departments in Naval Hospitals, Counseling and Assistance Centers, Personal Responsibility and Values Education and Training Program (Prevent) Offices, Navy Drug Screening Laboratories, and local activities to which an individual is assigned. Addresses are contained in a directory which is available from the Director, Personal and Family Readiness (N135), Navy Personnel Command, 5720 Integrity Drive, Millington, TN 38055-6000.”

* * * * *

Categories of records in the system:

Delete entry and replace with “Documentation containing full name, Social Security Number (SSN), rate/rank, military status, demographic data, screening and assessment information, progress notes, medical and laboratory data, results of active and reserve member's urinalysis testing, narrative summaries of treatment, aftercare plans, and other information pertaining to a member's participation in substance abuse education, counseling, and rehabilitation programs.”

* * * * *

System manager(s) and address:

Delete entry and replace with “Director, Personal and Family Readiness (N135), Navy Personnel Command, 5720 Integrity Drive, Millington, TN 38055-6000.”

Notification procedure:

Delete entry and replace with “Individuals seeking to determine whether this system of records contains information about themselves should address written inquiries to the Director, Personal and Family Readiness (N135), Navy Personnel Command, 5720 Integrity Drive, Millington, TN 38055-6000 or to the Naval activity providing treatment. Addresses are contained in a directory which is available from the Director, Personal and Family Readiness (N135), Navy Personnel Command, 5720 Integrity Drive, Millington, TN 38055-6000.

Requests should contain full name, Social Security Number (SSN), rank/rate, military status, and signature of the requester. The system manager may require an original signature or a notarized signature as a means of proving the identity of the individual requesting access to the records.”

Record access procedures:

Delete entry and replace with “Individuals seeking access to records about themselves contained in this system of records should address written inquiries to the Director, Personal and Family Readiness (N135), Navy Personnel Command, 5720 Integrity Drive, Millington, TN 38055-6000 or to the naval activity providing treatment. Addresses are contained in a directory which is available from the Director, Personal and Family Readiness (N135), Navy Personnel Command, 5720 Integrity Drive, Millington, TN 38055-6000.

The letter should contain full name, Social Security Number (SSN), rank/rate, military status, and signature of the requester. The system manager may require an original signature or a notarized signature as a means of proving the identity of the individual requesting access to the records.”

* * * * *

N05350-1

System name:

Navy Drug and Alcohol Program System.

System location:

Primary location: Personal and Family Readiness (N135), Navy Personnel Command, 5720 Integrity Drive, Millington, TN 38055-6000.

Decentralized locations: Navy Alcohol Rehabilitation Centers, Navy Alcohol Rehabilitation Departments in Naval Hospitals, Counseling and Assistance Centers, Personal Responsibility and Values Education and Training Program (Prevent) Offices, Navy Drug Screening Laboratories, and local activities to which an individual is assigned. Addresses are contained in a directory which is available from the Director, Personal and Family Readiness (N135), Navy Personnel Command, 5720 Integrity Drive, Millington, TN 38055-6000.

Categories of individuals covered by the system:

Navy personnel (officers and enlisted) who have been identified as drug or alcohol abusers and who are subsequently screened or referred for remedial education, outpatient counseling, or residential rehabilitation; counselors, counselor interns, and counselor applicants; Navy personnel who attend the Prevent Program for preventive education; dependents and civilian employees, where authorized, who participate in preventive and remedial education programs, outpatient counseling, and residential rehabilitation; and officer, enlisted, and civilian staff members of facilities providing drug and alcohol education, screening, counseling, rehabilitation, and drug testing.

Categories of records in the system:

Documentation containing full name, Social Security Number (SSN), rate/rank, military status, demographic data, screening and assessment information, progress notes, medical and laboratory data, results of active and reserve member's urinalysis testing, narrative summaries of treatment, aftercare plans, and other information pertaining to a member's participation in substance abuse education, counseling, and rehabilitation programs.

Authority for maintenance of the system:

10 U.S.C. 1090, Identifying and treating drug and alcohol dependence; 10 U.S.C. 5013, Secretary of the Navy; 42 U.S.C. 290dd-2, Confidentiality of records; and E.O. 9397 (SSN) as amended.

Purpose(s):

To train, educate, identify, screen, counsel, rehabilitate, and monitor the progress of individuals in drug and alcohol abuse programs.

Information is used to screen and evaluate the certified counselors, counselor interns, and counselor applicants throughout the course of their duties.

Routine uses of records maintained in the system, including categories of users and the purposes of such uses:

In addition to those disclosures generally permitted under 5 U.S.C. 552a(b) of the Privacy Act of 1974, these records or information contained therein may specifically be disclosed outside the DoD as a routine use pursuant to 5 U.S.C. 552a(b)(3) as follows:

In order to comply with the provisions of 42 U.S.C. 290dd-2, the Navy's ‘Blanket Routine Uses’ do not apply to this system of records.

Specifically, records of the identity, diagnosis, prognosis, or treatment of any client/patient, irrespective of whether or when he/she ceases to be client/patient, maintained in connection with the performance of any alcohol or drug abuse, education, training, treatment, rehabilitation, or research which is conducted, regulated, or directly or indirectly assisted by any department or agency of the United States, shall, except as provided therein, be confidential and be disclosed only for the purposes and under the circumstances expressly authorized in 42 U.S.C. 290dd-2. This statute takes precedence over the Privacy Act of 1974 in regard to accessibility of such records, except to the individual to whom the record pertains.

The content of any record may be disclosed in accordance with prior written consent of the patient with respect to whom such record is maintained, but only to such extent, under such circumstances, and for purposes as may be allowed under such prescribed regulations.

Information from records may be released without the member's consent in the following situations:

To medical personnel to the extent necessary to meet a bona fide medical emergency.

To qualified personnel for the purpose of conducting scientific research, management audits, or program evaluation, but such personnel may not identify, directly or indirectly, any individual patient in any report of such research, audit or evaluation, or otherwise disclose patient identities in any manner.

If authorized by an appropriate order of a court of competent jurisdiction granted after application showing good case therefore. In accessing good cause, the court shall weigh the public interest and the need for disclosure against the injury to the patient, to the physician patient relationship, and to the treatment services. Upon the granting of such order, the court, in determining the extent to which any disclosure of all or any part of any record is necessary, shall impose appropriate safeguards against unauthorized disclosures.

The above prohibitions do not apply to any interchange of records within the Armed Forces or within those components of the Department of Veterans Affairs furnishing health care to veterans or between such components and the Armed Forces.

Policies and practices for storing, retrieving, accessing, retaining, and disposing of records in the system:

Storage:

Automated records may be stored on computer disks (both hard drive and floppy), magnetic tapes, and drums.

Manual records may be stored in paper file folders, computer printouts, microfiche, or microfilm.

Retrievability:

Name and Social Security Number (SSN).

Safeguards:

Computer facilities are located in restricted areas accessible only to authorized persons that are properly screened, cleared and trained.

Manual records and computer printouts are available only to authorized personnel having a need-to-know.

Retention and disposal:

Manual records are maintained for two years or three years and then retired to the nearest Federal Records Center. Automated records are maintained indefinitely.

System manager(s) and address:

Director, Personal and Family Readiness (N135), Navy Personnel Command, 5720 Integrity Drive, Millington, TN 38055-6000.

Notification procedure:

Individuals seeking to determine whether this system of records contains information about themselves should address written inquiries to the Director, Personal and Family Readiness (N135), Navy Personnel Command, 5720 Integrity Drive, Millington, TN 38055-6000 or to the naval activity providing treatment.

Addresses are contained in a directory which is available from the Director, Personal and Family Readiness (N135), Navy Personnel Command, 5720 Integrity Drive, Millington, TN 38055-6000.

Requests should contain full name, Social Security Number (SSN), rank/rate, military status, and signature of the requester. The system manager may require an original signature or a notarized signature as a means of proving the identity of the individual requesting access to the records.

Record access procedures:

Individuals seeking access to records about themselves contained in this system of records should address written inquiries to the Director, Personal and Family Readiness (N135), Navy Personnel Command, 5720 Integrity Drive, Millington, TN 38055-6000 or to the naval activity providing treatment. Addresses are contained in a directory which is available from the Director, Personal and Family Readiness (N135), Navy Personnel Command, 5720 Integrity Drive, Millington, TN 38055-6000.

The letter should contain full name, Social Security Number (SSN), rank/rate, military status, and signature of the requester. The system manager may require an original signature or a notarized signature as a means of proving the identity of the individual requesting access to the records.

Contesting record procedures:

The Navy's rules for accessing records, and for contesting contents and appealing initial agency determinations are published in Secretary of the Navy Instruction 5211.5; 32 CFR part 701; or may be obtained from the system manager.

Record source categories:

DOD/DON officials; notes and documents from Service Jackets and Medical Records; and general correspondence concerning the individual.

Exemptions claimed for the system:

None.

[FR Doc. 2010-31249 Filed 12-13-10; 8:45 am]

BILLING CODE 5001-06-P